FEDERAL HOUSING FINANCE BOARD

[No. 2008-N-01]

Federal Home Loan Bank Members Selected for Community Support Review

AGENCY: Federal Housing Finance Board.

ACTION: Notice.

SUMMARY: The Federal Housing Finance Board (Finance Board) is announcing the Federal Home Loan Bank (Bank) members it has selected for the 2006-07 eighth quarter review cycle under the Finance Board's community support requirements regulation. This notice also prescribes the deadline by which Bank members selected for review must submit Community Support Statements to the Finance Board.

DATES: Bank members selected for the review cycle under the Finance Board's community support requirements regulation must submit completed Community Support Statements to the Finance Board on or before February 29, 2008.

ADDRESSES: Bank members selected for the 2006-07 eighth quarter review cycle under the Finance Board's community support requirements regulation must submit completed Community Support Statements to the Finance Board either by regular mail at the Federal Housing Finance Board, Office of Supervision, Community Investment and Affordable Housing, 1625 Eye Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the February 29, 2008 deadline prescribed in this notice. 12 CFR 944.2(b)(1)(ii) and (c). On or before January 25, 2008, each Bank will notify the members in its district that have been selected for the 2006-07 eighth quarter community support review cycle that they must complete and submit to the Finance Board by the deadline a Community Support Statement. 12 CFR 944.2(b)(2)(i). The member's Bank will provide a blank Community Support Statement Form, which also is available on the Finance Board's Web site: WWW.FHFB.GOV. Upon request, the member's Bank also will provide assistance in completing the Community Support Statement.

The Finance Board has selected the following members for the 2006-07 eighth quarter community support review cycle:

Federal Home Loan Bank of Boston—District 1
Savings Bank of Danbury | Danbury | Connecticut.
VantisLife Insurance Company | East Hartford | Connecticut.
American Eagle Federal Credit Union | East Hartford | Connecticut.
Dime Bank | Norwich | Connecticut.
Stafford Savings Bank | Stafford Springs | Connecticut.
Sikorsky Financial Credit Union | Stratford | Connecticut.
Torrington Savings Bank | Torrington | Connecticut.
Constitution Corporate Federal Credit Union | Wallingford | Connecticut.
Webster Bank, N.A | Waterbury | Connecticut.
Biddeford Savings Bank | Biddeford | Maine.
Atlantic Regional Federal Credit Union | Brunswick | Maine.
Central Maine Federal Credit Union | Lewiston | Maine.
Rainbow Federal Credit Union | Lewiston | Maine.
Evergreen Credit Union | Portland | Maine.
The Provident Bank | Amesbury | Massachusetts.
Athol-Clinton Co-operative Bank | Athol | Massachusetts.
The Village Bank | Auburndale | Massachusetts.
Brookline Municipal Credit Union | Brookline | Massachusetts.
Metropolitan Credit Union | Chelsea | Massachusetts.
Pilgrim Bank | Cohasset | Massachusetts.
First Priority Credit Union | East Boston | Massachusetts.
Everett Co-operative Bank | Everett | Massachusetts.
St. Anne's Credit Union of Fall River, Mass | Fall River | Massachusetts.
I. C. Federal Credit Union | Fitchburg | Massachusetts.
Holyoke Credit Union | Holyoke | Massachusetts.
Jeanne D'Arc Credit Union | Lowell | Massachusetts.
St. Mary's Credit Union | Marlborough | Massachusetts.
Medway Co-operative Bank | Medway | Massachusetts.
Merrimac Savings Bank | Merrimac | Massachusetts.
Millbury National Bank | Millbury | Massachusetts.
Greylock Federal Credit Union | Pittsfield | Massachusetts.
Legacy Banks | Pittsfield | Massachusetts.
Bridgewater Savings Bank | Raynham | Massachusetts.
Winter Hill Bank, FSB | Somerville | Massachusetts.
Member Plus Credit Union | Somerville | Massachusetts.
MBTA Employees Credit Union | South Boston | Massachusetts.
Mount Washington Co-Operative Bank | South Boston | Massachusetts.
Wakefield Co-operative Bank | Wakefield | Massachusetts.
Webster Five Cents Savings Bank | Webster | Massachusetts.
Mutual Federal Savings Bank of Plymouth County | Whitman | Massachusetts.
Winchester Savings Bank | Winchester | Massachusetts.
Ledyard National Bank | Hanover | New Hampshire.
Monadnock Community Bank | Peterborough | New Hampshire.
Northeast Credit Union | Portsmouth | New Hampshire.
Woodsville Guaranty Savings Bank | Woodsville | New Hampshire.
Coastway Credit Union | Cranston | Rhode Island.
People's Credit Union | Middleton | Rhode Island.
Pawtucket Credit Union | Pawtucket | Rhode Island.
Opportunities Credit Union | Burlington | Vermont.
Community National Bank | Derby | Vermont.
First National Bank of Orwell | Orwell | Vermont.
Wells River Savings Bank | Wells River | Vermont.
Federal Home Loan Bank of New York—District 2
Summit Federal Savings Bank | Dunellen | New Jersey.
Sterling Bank | Mount Laurel | New Jersey.
Ridgewood Savings Bank | Ridgewood | New Jersey.
Roselle Savings Bank | Roselle | New Jersey.
Greater Community Bank | Totowa | New Jersey.
Sun National Bank | Vineland | New Jersey.
Valley National Bank | Wayne | New Jersey.
Marathon National Bank of New York | Astoria | New York.
Seneca Federal Savings and Loan Association | Baldwinsville | New York.
Ballston Spa National Bank | Ballston Spa | New York.
The Dime Savings Bank of Williamsburgh | Brooklyn | New York.
The North Country Savings Bank | Canton | New York.
Community Bank, National Association | Canton | New York.
Carthage Federal Savings and Loan | Carthage | New York.
Lake Shore Savings Loan Association | Dunkirk | New York.
The First National Bank of Jeffersonville | Jeffersonville | New York.
North Fork Bank | Melville | New York.
Interaudi Bank | New York | New York.
The Seneca Falls Savings Bank | Seneca Falls | New York.
Geddes Federal Savings and Loan | Syracuse | New York.
Alliance Bank, NA | Syracuse | New York.
The National Bank of Delaware County | Walton | New York.
Sound Federal Savings | White Plains | New York.
EuroBank | San Juan | Puerto Rico.
RG Premier Bank of Puerto Rico | San Juan | Puerto Rico.
Federal Home Loan Bank of Pittsburgh—District 3
Wilmington Trust of Pennsylvania | Wilmington | Delaware.
Chase Bank USA, N.A | New York | New York.
Allegiance Bank of North America | Bala Cynwyd | Pennsylvania.
First Keystone National Bank | Berwick | Pennsylvania.
American Eagle Savings Bank | Boothwyn | Pennsylvania.
Commerce Bank/Harrisburg, N.A | Camp Hill | Pennsylvania.
Croydon Savings Bank | Croydon | Pennsylvania.
FNB Bank, N.A | Danville | Pennsylvania.
Marquette Savings Bank | Erie | Pennsylvania.
First United National Bank | Fryburg | Pennsylvania.
Adams County National Bank | Gettysburg | Pennsylvania.
The First National Bank of Greencastle | Greencastle | Pennsylvania.
Huntingdon Savings Bank | Huntingdon | Pennsylvania.
Huntingdon Valley Bank | Huntingdon Valley | Pennsylvania.
First Commonwealth Bank | Indiana | Pennsylvania.
Abington Bank | Jenkintown | Pennsylvania.
The Merchants National Bank of Kittanning | Kittanning | Pennsylvania.
Fulton Bank | Lancaster | Pennsylvania.
BLC Bank, N.A | Lancaster | Pennsylvania.
The First National Bank of Lilly | Lilly | Pennsylvania.
The Citizens National Bank | Meyersdale | Pennsylvania.
Milton Savings Bank | Milton | Pennsylvania.
The Northumberland National Bank | Northumberland | Pennsylvania.
First National Bank of Palmerton | Palmerton | Pennsylvania.
Tioga Franklin Savings Bank | Philadelphia | Pennsylvania.
United Savings Bank | Philadelphia | Pennsylvania.
Fidelity Bank PaSb | Pittsburgh | Pennsylvania.
Landmark Community Bank | Pittston | Pennsylvania.
West Milton State Bank | West Milton | Pennsylvania.
CNB | Berkeley Springs | West Virginia.
Bank of Charles Town | Charles Town | West Virginia.
Davis Trust Company | Elkins | West Virginia.
Guaranty Bank & Trust Company | Huntington | West Virginia.
Capon Valley Bank | Wardensville | West Virginia.
Cornerstone Bank, Inc. | West Union | West Virginia.
The Citizens Bank of Weston, Inc. | Weston | West Virginia.
Federal Home Loan Bank of Atlanta—District 4
First National Bank & Trust | Atmore | Alabama.
Regions Bank | Birmingham | Alabama.
Superior Bank | Birmingham | Alabama.
Farmers and Merchants Bank | Centre | Alabama.
Merchants & Farmers Bank of Greene County | Eutaw | Alabama.
First Lowndes Bank | Fort Deposit | Alabama.
First Metro Bank | Muscle Shoals | Alabama.
Farmers and Merchants Bank | Piedmont | Alabama.
West Alabama Bank & Trust | Reform | Alabama.
Bank Independent | Sheffield | Alabama.
First Southern State Bank | Stevenson | Alabama.
First National Bank of Central Alabama | Tuscaloosa | Alabama.
Turnberry Bank | Aventura | Florida.
Horizon Bank | Bradenton | Florida.
Riverside Bank of the Gulf Coast | Cape Coral | Florida.
Gulf State Community Bank | Carrabelle | Florida.
BAC Florida Bank | Coral Gables | Florida.
EuroBank | Coral Gables | Florida.
Englewood Bank | Englewood | Florida.
First Community Bank of Southwest Florida | Fort Myers | Florida.
Beach Community Bank | Fort Walton Beach | Florida.
First Bank and Trust Company of Indiantown | Indiantown | Florida.
Jacksonville Firemen's Credit Union | Jacksonville | Florida.
The Jacksonville Bank | Jacksonville | Florida.
Heritage Bank of Florida | Lutz | Florida.
Executive National Bank | Miami | Florida.
Sunshine State FS&L Association | Plant City | Florida.
Wheeler County State Bank | Alamo | Georgia.
Colony Bank Ashburn | Ashburn | Georgia.
The National Bank of Georgia | Athens | Georgia.
Capitol City Bank & Trust Company | Atlanta | Georgia.
Atlantic National Bank | Brunswick | Georgia.
Peoples Bank & Trust | Buford | Georgia.
United National Bank | Cairo | Georgia.
Bartow County Bank | Cartersville | Georgia.
PeoplesSouth Bank | Colquitt | Georgia.
Columbus Bank and Trust Company | Columbus | Georgia.
Bank of Dawson | Dawson | Georgia.
Bank of Terrell | Dawson | Georgia.
Farmers State Bank | Dublin | Georgia.
Heritage Bank | Jonesboro | Georgia.
Enterprise Banking Company | McDonough | Georgia.
Waycross Bank & Trust | Waycross | Georgia.
UnitedBank | Zebulon | Georgia.
The Harbor Bank of Maryland | Baltimore | Maryland.
Old Line Bank | Bowie | Maryland.
County First Bank | La Plata | Maryland.
Bank of Ocean City | Ocean City | Maryland.
Farmers and Merchants Bank | Upperco | Maryland.
Bank of America Georgia, NA | Charlotte | North Carolina.
New Century Bank | Dunn | North Carolina.
Four Oaks Bank & Trust Company | Four Oaks | North Carolina.
Bank of the Carolinas | Mocksville | North Carolina.
The Bank of Currituck | Moyock | North Carolina.
First-Citizens Bank & Trust Company | Raleigh | North Carolina.
Roanoke Rapids Savings Bank, SSB | Roanoke Rapids | North Carolina.
KS Bank, Incorporated | Smithfield | North Carolina.
Jackson Savings Bank, S.S.B | Sylva | North Carolina.
Tarboro Savings Bank, SSB | Tarboro | North Carolina.
Security Federal Bank | Aiken | South Carolina.
Bank of Anderson, National Association | Anderson | South Carolina.
Lowcountry National Bank | Beaufort | South Carolina.
CapitalBank | Greenwood | South Carolina.
Palmetto State Bank | Hampton | South Carolina.
Beach First National Bank | Myrtle Beach | South Carolina.
First National Bank of the South | Spartanburg | South Carolina.
Highlands Union Bank | Abingdon | Virginia.
The First Bank and Trust Company | Abingdon | Virginia.
Countrywide Bank, N.A | Alexandria | Virginia.
The First National Bank of Altavista | Altavista | Virginia.
Bank of Clarke County | Berryville | Virginia.
Bank of Floyd | Floyd | Virginia.
TruPoint Bank | Grundy | Virginia.
The Bank of Marion | Marion | Virginia.
Bank of Essex | Tappahannock | Virginia.
Resource Bank | Virginia Beach | Virginia.
The Fauquier Bank | Warrenton | Virginia.
Federal Home Loan Bank of Cincinnati—District 5
Town Square Bank, Inc | Ashland | Kentucky.
Auburn Banking Company | Auburn | Kentucky.
Peoples Exchange Bank | Beattyville | Kentucky.
Appalachian Peoples Federal Credit Union | Berea | Kentucky.
Farmers State Bank | Booneville | Kentucky.
American Bank & Trust Company, Inc | Bowling Green | Kentucky.
Citizens First Bank, Inc | Bowling Green | Kentucky.
The First National Bank of Brooksville | Brooksville | Kentucky.
Heritage Bank, Inc | Burlington | Kentucky.
Bank of Caneyville | Caneyville | Kentucky.
Bank of Corbin, Inc | Corbin | Kentucky.
Bank of Ohio County | Dundee | Kentucky.
Elkton Bank and Trust Company | Elkton | Kentucky.
Farmers Deposit Bank | Eminence | Kentucky.
The Bank of Kentucky | Florence | Kentucky.
First Federal Savings Bank of Frankfort | Frankfort | Kentucky.
The Commercial Bank of Grayson | Grayson | Kentucky.
The First National Bank of Grayson | Grayson | Kentucky.
Ohio Valley National Bank | Henderson | Kentucky.
Hyden Citizens Bank | Hyden | Kentucky.
Citizens Guaranty Bank | Irvine | Kentucky.
The First National Bank of Jackson | Jackson | Kentucky.
Citizens Bank & Trust Company of Jackson | Jackson | Kentucky.
Peoples Bank | Lebanon | Kentucky.
Lewisburg Banking Company | Lewisburg | Kentucky.
University of Kentucky Federal Credit Union | Lexington | Kentucky.
First National Bank and Trust | London | Kentucky.
Stock Yards Bank & Trust Company | Louisville | Kentucky.
The Peoples Bank | Marion | Kentucky.
Security Bank & Trust Company | Maysville | Kentucky.
The Citizens Bank | Morehead | Kentucky.
Citizens Bank of Northern Ky, Inc. | Newport | Kentucky.
First Farmers Bank & Trust Company | Owenton | Kentucky.
The Paducah Bank & Trust Company | Paducah | Kentucky.
Kentucky Bank | Paris | Kentucky.
Salyersville National Bank | Salyersville | Kentucky.
Citizens Union Bank of Shelbyville | Shelbyville | Kentucky.
Somerset National Bank | Somerset | Kentucky.
PBK Bank, Inc. | Stanford | Kentucky.
Bank of the Mountains | West Liberty | Kentucky.
Winchester Federal Savings Bank | Winchester | Kentucky.
North Akron Savings Bank | Akron | Ohio.
The Andover Bank | Andover | Ohio.
Sutton Bank | Attica | Ohio.
UnitedBank, N.A | Bucyrus | Ohio.
Farmers National Bank | Canfield | Ohio.
The Cincinnatus Savings & Loan Company | Cheviot | Ohio.
Foundation Bank | Cincinnati | Ohio.
The Union Bank Company | Columbus Grove | Ohio.
Heartland Federal Credit Union | Dayton | Ohio.
The State Bank and Trust Company | Defiance | Ohio.
Fremont Federal Credit Union | Fremont | Ohio.
The Ohio Valley Bank Company | Gallipolis | Ohio.
The Sycamore National Bank | Groesbeck | Ohio.
The Harrison Building and Loan Association | Harrison | Ohio.
Lebanon Citizens National Bank | Lebanon | Ohio.
Buckeye Community Bank | Lorain | Ohio.
The Lorain National Bank | Lorain | Ohio.
The Ohio State Bank | Marion | Ohio.
Minster Bank | Minster | Ohio.
The Mount Victory State Bank | Mount Victory | Ohio.
First National Bank of New Bremen | New Bremen | Ohio.
The Farmers State Bank | New Madison | Ohio.
Great Lakes Credit Union, Inc | Pennsyburg | Ohio.
Portage Community Bank | Ravenna | Ohio.
The Richwood Banking Company | Richwood | Ohio.
Sherwood State Bank | Sherwood | Ohio.
The First National Bank of Sycamore | Sycamore | Ohio.
First Bank of Ohio | Tiffin | Ohio.
The Citizens National Bank of Urbana | Urbana | Ohio.
The National Bank and Trust Company | Wilmington | Ohio.
Woodsfield Savings Bank | Woodsfield | Ohio.
Community B&T Company of Cheatham | Ashland City | Tennessee.
Citizens Bank & Trust Company | Atwood | Tennessee.
First South Bank | Bolivar | Tennessee.
Cornerstone Community Bank | Chattanooga | Tennessee.
Southern Heritage Bank | Cleveland | Tennessee.
The Community Bank of East Tennessee | Clinton | Tennessee.
First Alliance Bank | Cordova | Tennessee.
Tristar Bank | Dickson | Tennessee.
Fifth Third Bank, N.A | Franklin | Tennessee.
Tennessee Commerce Bank | Franklin | Tennessee.
Dupont Community Credit Union | Hixon | Tennessee.
The First National Bank of LaFollette | LaFollette | Tennessee.
Bank of Perry County | Lobelville | Tennessee.
Bank of Mason | Mason | Tennessee.
McKenzie Banking Company | McKenzie | Tennessee.
Security Federal Savings Bank | McMinnville | Tennessee.
Financial Federal Savings Bank | Memphis | Tennessee.
Tri-State Bank of Memphis | Memphis | Tennessee.
First Tennessee Bank NA | Memphis | Tennessee.
Pinnacle National Bank | Nashville | Tennessee.
Community Trust & Banking Company | Ooletewah | Tennessee.
Bank of Ripley | Ripley | Tennessee.
First Community Bank of East Tennessee | Rogersville | Tennessee.
The Citizens Bank of East Tennessee | Rogersville | Tennessee.
The Hardin County Bank | Savannah | Tennessee.
Peoples State Bank of Commerce | Trenton | Tennessee.
The Traders National Bank | Tullahoma | Tennessee.
First State Bank | Union City | Tennessee.
Wayne County Bank | Waynesboro | Tennessee.
Federal Home Loan Bank of Indianapolis—District 6
Central National Bank & Trust Company | Attica | Indiana.
Hoosier Hills Credit Union | Bedford | Indiana.
Bloomfield State Bank | Bloomfield | Indiana.
Indiana University Employees Federal Credit Union | Bloomington | Indiana.
Wayne Bank and Trust Company | Cambridge City | Indiana.
Chiphone Federal Credit Union | Elkhart | Indiana.
MidWest America Federal Credit Union | Fort Wayne | Indiana.
Fire Police City County Federal Credit Union | Fort Wayne | Indiana.
Alliance Bank | Francesville | Indiana.
Friendship State Bank | Friendship | Indiana.
Lafayette Bank & Trust Company, NA | Lafayette | Indiana.
Lynnville National Bank | Lynnville | Indiana.
Citizens State Bank | New Castle | Indiana.
Notre Dame Federal Credit Union | Notre Dame | Indiana.
First Federal Savings Bank | Rochester | Indiana.
1st Source Bank | South Bend | Indiana.
First National Bank, Valparaiso | Valparaiso | Indiana.
Centre Bank | Veedersburg | Indiana.
The Merchants Bank & Trust Company | West Harrison | Indiana.
Centier Bank | Whiting | Indiana.
Chelsea State Bank | Chelsea | Michigan.
Southern Michigan Bank and Trust | Coldwater | Michigan.
Century Bank and Trust | Coldwater | Michigan.
First State Bank | Decatur | Michigan.
Baybank | Gladstone | Michigan.
Founders Bank & Trust | Grand Rapids | Michigan.
Independent Bank—West Michigan | Grand Rapids | Michigan.
West Michigan Community Bank | Hudsonville | Michigan.
The Miners State Bank of Iron River | Iron River | Michigan.
Peninsula Bank | Ishpeming | Michigan.
Kent Commerce Bank | Kentwood | Michigan.
West Shore Bank | Ludington | Michigan.
Dart Bank | Mason | Michigan.
Citizens State Bank | New Baltimore | Michigan.
OSB Community Bank | Onsted | Michigan.
Oxford Bank | Oxford | Michigan.
The Bank of Northern Michigan | Petoskey | Michigan.
Old Mission Bank | Sault Saint Marie | Michigan.
FirstBank—St. Johns | St. Johns | Michigan.
Warren Bank | Warren | Michigan.
Federal Home Loan Bank of Chicago—District 7
Benchmark Bank | Aurora | Illinois.
Old Second National Bank | Aurora | Illinois.
Tompkins State Bank | Avon | Illinois.
Beardstown Savings s.b | Beardstown | Illinois.
Citizens Community Bank of Illinois | Berwyn | Illinois.
Great Lakes Bank, National Association | Blue Island | Illinois.
Brimfield Bank | Brimfield | Illinois.
Marine Bank and Trust | Carthage | Illinois.
Buena Vista National Bank | Chester | Illinois.
Chester National Bank | Chester | Illinois.
Park National Bank | Chicago | Illinois.
Lakeside Bank | Chicago | Illinois.
The Northern Trust Company | Chicago | Illinois.
Pacific Global Bank | Chicago | Illinois.
State Bank of Chrisman | Chrisman | Illinois.
Republic Bank of Chicago | Darien | Illinois.
The First National Bank of Dieterich | Dieterich | Illinois.
First State Bank of Dix | Dix | Illinois.
Citizens Bank of Edinburg | Edinburg | Illinois.
TheBank of Edwardsville | Edwardsville | Illinois.
First State Bank of Eldorado | Eldorado | Illinois.
Elgin State Bank | Elgin | Illinois.
Advantage National Bank | Elk Grove Village | Illinois.
First Bank & Trust | Evanston | Illinois.
Fairfield National Bank | Fairfield | Illinois.
Flora Savings Bank | Flora | Illinois.
Farmers and Mechanics Bank | Galesburg | Illinois.
Glasford State Bank | Glasford | Illinois.
Heritage Community Bank | Glenwood | Illinois.
Goodfield State Bank | Goodfield | Illinois.
Farmers National Bank of Griggsville | Griggsville | Illinois.
Clay County State Bank | Louisville | Illinois.
HomeStar Bank | Manteno | Illinois.
First Federal Savings Bank of Mascoutah | Mascoutah | Illinois.
First Federal Savings & Loan Association of Mattoon | Mattoon | Illinois.
Morton Community Bank | Morton | Illinois.
The First National Bank of Mt. Pulaski | Mt. Pulaski | Illinois.
TrustBank | Olney | Illinois.
First Federal Savings Bank | Ottawa | Illinois.
First Bank and Trust, s.b | Paris | Illinois.
Corn Belt Bank & Trust Company | Pittsfield | Illinois.
Bank of Rantoul | Rantoul | Illinois.
The First National Bank & Trust Company | Rochelle | Illinois.
Northwest Bank of Rockford | Rockford | Illinois.
1st Community Bank | Sherrard | Illinois.
Independent Bankers' Bank | Springfield | Illinois.
Sterling Federal Bank, F.S.B | Sterling | Illinois.
Streator Home Building and Loan Association | Streator | Illinois.
First National Bank | Sullivan | Illinois.
Savanna-Thomson State Bank | Thomson | Illinois.
Tempo Bank, A FSB | Trenton | Illinois.
Heritage Bank of Central Illinois | Trivoli | Illinois.
Iroquois Federal Savings and Loan Association | Watseka | Illinois.
Main Source Bank | Watseka | Illinois.
NorStates Bank | Waukegan | Illinois.
Wemple State Bank | Waverly | Illinois.
State Bank of Illinois | West Chicago | Illinois.
Sterling Bank | Barron | Wisconsin.
RidgeStone Bank | Brookfield | Wisconsin.
First Banking Center | Burlington | Wisconsin.
Cambridge State Bank | Cambridge | Wisconsin.
Community Bank of Cameron | Cameron | Wisconsin.
Community Bank of Central Wisconsin | Colby | Wisconsin.
DMB Community Bank | DeForest | Wisconsin.
Community Bank Delavan | Delavan | Wisconsin.
Royal Credit Union | Eau Claire | Wisconsin.
Charter Bank Eau Claire | Eau Claire | Wisconsin.
Grand Marsh State Bank | Grand Marsh | Wisconsin.
Hartford Savings Bank | Hartford | Wisconsin.
Farmers State Bank | Hillsboro | Wisconsin.
Citizens State Bank | Hudson | Wisconsin.
The Bank of Kaukauna | Kaukauna | Wisconsin.
First National Bank in Manitowoc | Manitowoc | Wisconsin.
Investors Community Bank | Manitowoc | Wisconsin.
Farmers & Merchants Bank and Trust | Marinette | Wisconsin.
The Stephenson National Bank & Trust | Marinette | Wisconsin.
Marshfield Savings Bank | Marshfield | Wisconsin.
Mayville Savings Bank | Mayville | Wisconsin.
McFarland State Bank | McFarland | Wisconsin.
Lincoln County Bank | Merrill | Wisconsin.
North Milwaukee State Bank | Milwaukee | Wisconsin.
Monona State Bank | Monona | Wisconsin.
First National Bank of Niagara | Niagara | Wisconsin.
Oostburg State Bank | Oostburg | Wisconsin.
United Bank | Osseo | Wisconsin.
Pigeon Falls State Bank | Pigeon Falls | Wisconsin.
Port Washington State Bank | Port Washington | Wisconsin.
Peoples State Bank | Prairie du Chien | Wisconsin.
Bank of Prairie du Sac | Prairie du Sac | Wisconsin.
Community State Bank of Prentice | Prentice | Wisconsin.
Community First Bank | Rosholt | Wisconsin.
Evergreen State Bank | Stoughton | Wisconsin.
Stratford State Bank | Stratford | Wisconsin.
Bank of Turtle Lake | Turtle Lake | Wisconsin.
First National Bank | Waupaca | Wisconsin.
People's State Bank | Wausau | Wisconsin.
State Bank of Withee | Withee | Wisconsin.
Federal Home Loan Bank of Des Moines—District 8
First National Bank of Akron (The) | Akron | Iowa.
First Iowa State Bank | Albia | Iowa.
Farmers State Bank | Algona | Iowa.
Ames Community Bank | Ames | Iowa.
Rolling Hills Bank & Trust | Atlantic | Iowa.
Benton County State Bank | Blairstown | Iowa.
First State Bank | Britt | Iowa.
Patriot Bank | Brooklyn | Iowa.
Farmers & Merchant Bank & Trust | Burlington | Iowa.
Carroll County State Bank | Carroll | Iowa.
Tri-County Bank & Trust | Cascade | Iowa.
Center Point Bank & Trust Company | Center Point | Iowa.
Iowa State Bank | Clarksville | Iowa.
Clinton National Bank | Clinton | Iowa.
Citizens First Bank | Clinton | Iowa.
Great Western Bank | Clive | Iowa.
First State Bank of Colfax | Colfax | Iowa.
Frontier Savings Bank | Council Bluffs | Iowa.
Northwest Bank and Trust Company | Davenport | Iowa.
Viking State Bank & Trust | Decorah | Iowa.
Defiance State Bank | Defiance | Iowa.
Bankers Trust Company, N.A | Des Moines | Iowa.
First Central State Bank | DeWitt | Iowa.
American Trust & Savings Bank | Dubuque | Iowa.
Du Trac Community Credit Union | Dubuque | Iowa.
Emmet County State Bank | Estherville | Iowa.
First Security State Bank | Evansdale | Iowa.
Manufacturers Bank & Trust Company | Forest City | Iowa.
The Garnavillo Savings Bank | Garnavillo | Iowa.
Union State Bank | Greenfield | Iowa.
Heritage Bank, N.A | Holstien | Iowa.
Iowa State Bank | Hull | Iowa.
United Bank of Iowa | Ida Grove | Iowa.
University of Iowa Community Credit Union | Iowa City | Iowa.
Iowa State Bank & Trust Company | Iowa City | Iowa.
Community Choice Credit Union | Johnston | Iowa.
Primebank | Le Mars | Iowa.
Luana Savings Bank | Luana | Iowa.
Central State Bank | Muscatine | Iowa.
MidwestOne Bank & Trust | Oskaloosa | Iowa.
Pioneer Bank | Sergeant Bluff | Iowa.
Bank Iowa | Shenandoah | Iowa.
Central Bank | Storm Lake | Iowa.
First State Bank | Stuart | Iowa.
American Savings Bank | Tripoli | Iowa.
West Bank | West Des Moines | Iowa.
Farmers Trust & Savings Bank | Williamsburg | Iowa.
Adrian State Bank | Adrian | Minnesota.
Security State Bank | Aitkin | Minnesota.
Annandale State Bank | Annandale | Minnesota.
First National Bank | Bagley | Minnesota.
The First National Bank of Battle Lake | Battle Lake | Minnesota.
State Bank of Belle Plaine | Belle Plaine | Minnesota.
First Federal Bank | Bemidji | Minnesota.
Security Bank USA | Bemidji | Minnesota.
Concorde Bank | Blomkest | Minnesota.
Bonanza Valley State Bank | Brooten | Minnesota.
CenBank | Buffalo Lake | Minnesota.
Root River State Bank | Chatfield | Minnesota.
Community Bank of the Red River Valley | East Grand Forks | Minnesota.
First National Bank of Elk River | Elk River | Minnesota.
The Bank of Elk River | Elk River | Minnesota.
Boundary Waters Bank | Ely | Minnesota.
Elysian Bank | Elysian | Minnesota.
Anchor Bank Farmington, N.A | Farmington | Minnesota.
Security State Bank of Fergus Falls | Fergus Falls | Minnesota.
Northview Bank | Finlayson | Minnesota.
State Bank of Gibbon | Gibbon | Minnesota.
Grand Marais State Bank | Grand Marais | Minnesota.
Grand Rapids State Bank | Grand Rapids | Minnesota.
State Bank of Hawley | Hawley | Minnesota.
First National Bank | Hawley | Minnesota
1st National Bank of Herman | Herman | Minnesota.
Security State Bank of Hibbing | Hibbing | Minnesota.
Woodlands National Bank | Hinckley | Minnesota.
Stearns Bank Holdingford National Association | Holdingford | Minnesota.
Eastwood Bank | Kasson | Minnesota.
American Alliance Bank | Lake City | Minnesota.
Farmers State Bank of Madelia, Inc | Madelia | Minnesota.
Pioneer Bank | Mapleton | Minnesota.
Grand Timber Bank | McGregor | Minnesota.
Kanabec State Bank | Mora | Minnesota.
Farmers & Merchants State Bank of New York Mills, Inc | New York Mills | Minnesota.
Valley Bank | North Mankato | Minnesota.
HomeTown Bank | Redwood Falls | Minnesota.
First National Bank of the North | Sandstone | Minnesota.
First National Bank of Sauk Centre | Sauk Centre | Minnesota.
Stearns Bank N.A | St. Cloud | Minnesota.
The Lake Bank | Two Harbors | Minnesota.
Stearns Bank of Upsala National Association | Upsala | Minnesota.
Mid-Central Federal Savings Bank | Wadena | Minnesota.
First National Bank of Waseca | Waseca | Minnesota.
United Security Bank | Auxvasse | Missouri.
County Bank | Brunswick | Missouri.
Mainstreet Bank | Buceton | Missouri.
Farmers State Bank | Cameron | Missouri.
Hometown Bank, N.A | Carthage | Missouri.
First State Bank and Trust Company, Inc | Caruthersville | Missouri.
Citizens Bank of Charleston | Charleston | Missouri.
Citizens Bank and Trust Company | Chillicothe | Missouri.
First National Bank of Clinton | Clinton | Missouri.
Community Bank of El Dorado Springs | El Dorado Springs | Missouri.
First Bank of Missouri | Gladstone | Missouri.
Bank of Holden | Holden | Missouri.
Hume Bank | Hume | Missouri.
Unico Bank | Irondale | Missouri.
Home Savings Bank | Jefferson City | Missouri.
First State Bank of Joplin | Joplin | Missouri.
Commerce Bank, N.A | Kansas City | Missouri.
Bank of Lee's Summit | Lee's Summit | Missouri.
The Farmers Bank of Lincoln | Lincoln | Missouri.
Community Bank & Trust | Neosho | Missouri.
Citizens Bank | New Haven | Missouri.
Bank Star | Pacific | Missouri.
The Paris National Bank | Paris | Missouri.
Bank Star of the LeadBelt | Park Hills | Missouri.
Phelps County Bank | Rolla | Missouri.
Systematic Savings and Loan Association | Springfield | Missouri.
Farmers & Merchants Bank | St. Clair | Missouri.
Heartland Bank | St. Louis | Missouri.
McIntosh County Bank | Ashley | North Dakota.
First Security Bank—West | Beulah | North Dakota.
Dakota Western Bank | Bowman | North Dakota.
First State Bank | Buxton | North Dakota.
United Valley Bank | Cavalier | North Dakota.
Western State Bank | Devils Lake | North Dakota.
Union State Bank of Hazen | Hazen | North Dakota.
Commercial Bank of Mott | Mott | North Dakota.
First National Bank & Trust Company of Williston | Williston | North Dakota.
Citizens State Bank of Arlington | Arlington | South Dakota.
First State Bank | Armour | South Dakota.
DNB National Bank | Clear Lake | South Dakota.
Langford State Bank | Langford | South Dakota.
Sunrise Bank Dakota | Onida | South Dakota.
Federal Home Loan Bank of Dallas—District 9
First Western Bank | Booneville | Arkansas.
Chambers Bank | Danville | Arkansas.
Decatur State Bank | Decatur | Arkansas.
First State Bank of DeQueen | DeQueen | Arkansas.
Timberland Bank | El Dorado | Arkansas.
Bank of Fayetteville | Fayetteville | Arkansas.
Signature Bank of Arkansas | Fayetteville | Arkansas.
First Service Bank | Greenbrier | Arkansas.
Farmers Bank | Hamburg | Arkansas.
Heritage Bank | Jonesboro | Arkansas.
Eagle Bank & Trust | Little Rock | Arkansas.
Parkway Bank | Portland | Arkansas.
First State Bank | Russellville | Arkansas.
The First National Bank of Wynne | Wynne | Arkansas.
Peoples Bank of Louisiana | Amite | Louisiana.
Landmark Bank | Clinton | Louisiana.
Caldwell Bank and Trust Company | Columbia | Louisiana.
Tri-Parish Bank | Eunice | Louisiana.
Gibsland Bank & Trust Company | Gibsland | Louisiana.
Bank of Jena | Jena | Louisiana.
MidSouth Bank N.A | Lafayette | Louisiana.
South Lafourche Bank & Trust Company | Larose | Louisiana.
Merchants & Farmers Bank & Trust Company | Leesville | Louisiana.
Resource Bank | Mandeville | Louisiana.
Omni Bank | Metairie | Louisiana.
Bank of Montgomery | Montgomery | Louisiana.
Community First Bank | New Iberia | Louisiana.
United Bank & Trust Company | New Orleans | Louisiana.
Gulf Coast Bank & Trust Company | New Orleans | Louisiana.
St. Landry Homestead | Opelousas | Louisiana.
Community Bank | Raceland | Louisiana.
First American Bank and Trust Company | Vacherie | Louisiana.
First Federal Savings and Loan | Aberdeen | Mississippi.
Farmers and Merchants Bank | Baldwyn | Mississippi.
Copiah Bank N.A | Hazlehurst | Mississippi.
Planters Bank & Trust Company | Indianola | Mississippi.
First American National Bank | Iuka | Mississippi.
Citizens Bank & Trust Company of Marks | Marks | Mississippi.
Pike National Bank | McComb | Mississippi.
United Mississippi Bank | Natchez | Mississippi.
Western Bank | Alamogordo | New Mexico.
Bank of Albuquerque N.A | Albuquerque | New Mexico.
Western Bank | Artesia | New Mexico.
Western Commerce Bank | Carlsbad | New Mexico.
Citizens Bank | Farmington | New Mexico.
Los Alamos National Bank | Los Alamos | New Mexico.
The James Polk Store National Bank | Portales | New Mexico.
Citizens Bank N.A | Abilene | Texas.
Bank of Commerce | Amarillo | Texas.
Anahuac National Bank | Anahuac | Texas.
First Bank | Azle | Texas.
First National Bank of Baird | Baird | Texas.
The First National Bank of Ballinger | Ballinger | Texas.
First National Bank Mid-Cities | Bedford | Texas.
The Blanco National Bank | Blanco | Texas.
Legend Bank N.A | Bowie | Texas.
The Commercial National Bank of Brady | Brady | Texas.
First State Bank—Bremond, S.S.B | Bremond | Texas.
First National Bank in Bronte | Bronte | Texas.
First Bank | Burkburnett | Texas.
First State Bank & Trust Company | Carthage | Texas.
Corsicana National Bank & Trust | Corsicana | Texas.
Stockmens National Bank | Cotulla | Texas.
Signature Bank | Dallas | Texas.
State Bank of Texas | Dallas | Texas.
Bank of Texas, N.A | Dallas | Texas.
Pavillion Bank | Dallas | Texas.
Amistad Bank | Del Rio | Texas.
Northstar Bank of Texas | Denton | Texas.
First Bank & Trust East Texas | Diboll | Texas.
The First National Bank of Eagle Lake | Eagle Lake | Texas.
NewFirst National Bank | El Campo | Texas.
The First National Bank of Emory | Emory | Texas.
Enloe State Bank | Enloe | Texas.
Greater South Texas Bank, FSB | Falfurrias | Texas.
Pecos County State Bank | Fort Stockton | Texas.
Worth National Bank | Fort Worth | Texas.
Security State Bank and Trust | Fredericksburg | Texas.
First State Bank | Gainesville | Texas.
Moody National Bank | Galveston | Texas.
First National Bank | George West | Texas.
First National Bank of Giddings | Giddings | Texas.
Mills County State Bank | Goldthwaite | Texas.
First State Bank | Graham | Texas.
Farmers State Bank | Groesbeck | Texas.
United Community Bank, N.A. | Highland Village | Texas.
The Hondo National Bank | Hondo | Texas.
Preferred Bank, FSB | Houston | Texas.
North Houston Bank | Houston | Texas.
Sterling Bank | Houston | Texas.
Huntington State Bank | Huntington | Texas.
State National Bank of Texas | Iowa Park | Texas.
TIB—The Independent Bankers Bank | Irving | Texas.
Jacksboro National Bank | Jacksboro | Texas.
Texas National Bank | Jacksonville | Texas.
First Liberty National Bank | Liberty | Texas.
MyLubbockBank | Lubbock | Texas.
USAA Federal Savings Bank | San Antonio | Texas.
Sanderson State Bank | Sanderson | Texas.
First Bank of Snook | Snook | Texas.
First National Bank of Trenton | Trenton | Texas.
Uvalde National Bank | Uvalde | Texas.
Independent Bank | Waco | Texas.
Central National Bank | Waco | Texas.
Wallis State Bank | Wallis | Texas.
Federal Home Loan Bank of Topeka—District 10
First National Bank of Colorado | Boulder | Colorado.
FirstBank of Boulder | Boulder | Colorado.
FirstBank of Breckenridge | Breckenridge | Colorado.
Coiz Bank, N.A | Denver | Colorado.
First National Bank of Estes Park | Estes Park | Colorado.
FirstBank of Northern Colorado | Fort Collins | Colorado.
Centennial Bank of the West | Fort Collins | Colorado.
Union Colony Bank | Greeley | Colorado.
FirstBank of Tech Center | Greenwood Village | Colorado.
The Gunnison Bank and Trust Company | Gunnison | Colorado.
Red Rocks Federal Credit Union | Highlands Ranch | Colorado.
Equitable Savings and Loan Association | Sterling | Colorado.
FirstBank North | Westminster | Colorado.
Legacy Bank | Wiley | Colorado.
Stockgrowers State Bank of Ashland | Ashland | Kansas.
Mid America Bank | Baldwin City | Kansas.
American Bank | Baxter Springs | Kansas.
Bendena State Bank | Bendena | Kansas.
Citizens State Bank | Cheney | Kansas.
The Citizens National Bank | Concordia | Kansas.
The First National Bank of Cunningham | Cunningham | Kansas.
State Bank of Downs | Downs | Kansas.
Garden City State Bank | Garden City | Kansas.
First Kansas Bank & Trust Company | Gardner | Kansas.
The First National Bank of Girard | Girard | Kansas.
First National Bank | Goodland | Kansas.
American State Bank & Trust Company, NA | Great Bend | Kansas.
The First State Bank of Healy | Healy | Kansas.
Farmers and Merchants Bank | Hill City | Kansas.
Hillsboro State Bank | Hillsboro | Kansas.
Hoisington National Bank | Hoisington | Kansas.
First National Bank of Holcomb | Holcomb | Kansas.
Denison State Bank | Holton | Kansas.
Howard State Bank | Howard | Kansas.
The Jamestown State Bank | Jamestown | Kansas.
Nekoma State Bank | La Crosse | Kansas.
First State Bank & Trust Company | Larned | Kansas.
Lawrence Bank | Lawrence | Kansas.
The State Bank of Lebo | Lebo | Kansas.
First National Bank of Liberal | Liberal | Kansas.
Lyons Federal Savings | Lyons | Kansas.
The Morrill & Janes Bank and Trust Company | Merriam | Kansas.
Sunflower Bank, N.A | Salina | Kansas.
St. Marys State Bank | St. Marys | Kansas.
Emprise Bank | Wichita | Kansas.
Adams State Bank | Adams | Nebraska.
Heartland Community Bank | Bennet | Nebraska.
First National Bank of Chadron | Chadron | Nebraska.
Bank of Clarks | Clarks | Nebraska.
Citizens State Bank | Clearwater | Nebraska.
Farmers Bank of Cook | Cook | Nebraska.
Farmers State Bank | Dodge | Nebraska.
Filley Bank | Filley | Nebraska.
Valley Bank and Trust Company | Gering | Nebraska.
First National Bank of Gordon | Gordon | Nebraska.
Hastings State Bank | Hastings | Nebraska.
Security National Bank | Laurel | Nebraska.
American National Bank | Omaha | Nebraska.
Security First Bank | Sidney | Nebraska.
Iowa—Nebraska State Bank | South Sioux City | Nebraska.
Wahoo State Bank | Wahoo | Nebraska.
Citizens Bank & Trust Company | Ardmore | Oklahoma.
Peoples State Bank | Blair | Oklahoma.
1st Bank & Trust | Broken Bow | Oklahoma.
First Bank of Chandler | Chandler | Oklahoma.
Union Bank of Chandler | Chandler | Oklahoma.
The First National Bank of Coweta | Coweta | Oklahoma.
First National Bank of Davis | Davis | Oklahoma.
Great Plains National Bank | Elk City | Oklahoma.
First Capital Bank | Guthrie | Oklahoma.
The Idabel National Bank | Idabel | Oklahoma.
Bank of Locust Grove | Locust Grove | Oklahoma.
The Bank, National Association | McAlester | Oklahoma.
The Grant County Bank | Medford | Oklahoma.
First National Bank | Midwest City | Oklahoma.
All America Bank | Mustang | Oklahoma.
Quail Creek Bank, N.A | Oklahoma City | Oklahoma.
Coppermark Bank | Oklahoma City | Oklahoma.
Frontier State Bank | Oklahoma City | Oklahoma.
The Community State Bank | Poteau | Oklahoma.
The Exchange Bank | Skiatook | Oklahoma.
First National Bank of Stigler | Stigler | Oklahoma.
Stroud National Bank | Stroud | Oklahoma.
Tulsa National Bank | Tulsa | Oklahoma.
Bank of Oklahoma, NA | Tulsa | Oklahoma.
Waurika National Bank | Waurika | Oklahoma.
Federal Home Loan Bank of San Francisco—District 11
National Bank of Arizona | Phoenix | Arizona.
First California Bank | Camarillo | California.
Tri Counties Bank | Chico | California.
First Northern Bank of Dixon | Dixon | California.
First National Bank of North County | Lake San Marcos | California.
Hanmi Bank | Los Angeles | California.
Manufacturers Bank | Los Angeles | California.
World Savings Bank, FSB | Oakland | California.
Kaiperm Federal Credit Union | Oakland | California.
Citizens Business Bank | Ontario | California.
First Security Thrift Company | Orange | California.
LA Financial Federal Credit Union | Pasadena | California.
Bank of the Sierra | Porterville | California.
Plumas Bank | Quincy | California.
Inland Empire National Bank | Riverside | California.
American River Bank | Sacramento | California.
Mission Federal Credit Union | San Diego | California.
North Island Financial Credit Union | San Diego | California.
America California Bank | San Francisco | California.
First National Bank of Nevada | Reno | Nevada.
Federal Home Loan Bank of Seattle—District 12
Alaska USA Federal Credit Union | Anchorage | Alaska.
Alaska Pacific Bank | Juneau | Alaska.
First Hawaiian Bank | Honolulu | Hawaii.
Hawaii National Bank | Honolulu | Hawaii.
West Oahu Community Federal Credit Union | Kapolei | Hawaii.
Idaho Independent Bank | Coeur D'Alene | Idaho.
Bank of Idaho | Idaho Falls | Idaho.
Belt Valley Bank | Belt | Montana.
Flathead Bank | Bigfork | Montana.
First Boulder Valley Bank | Boulder | Montana.
First Madison Valley Bank | Ennis | Montana.
Yellowstone Bank | Laurel | Montana.
Montana State Bank | Plentywood | Montana.
Valley Bank of Ronan | Ronan | Montana.
Citizens Bank | Corvallis | Oregon.
Oregon Community Credit Union | Eugene | Oregon.
Oregon Pacific Banking Company | Florence | Oregon.
Home Valley Bank | Grants Pass | Oregon.
Southern Oregon Federal Credit Union | Grants Pass | Oregon.
Town Center Bank | Portland | Oregon.
Williamette Valley Bank | Salem | Oregon.
Silver Falls Bank | Salem | Oregon.
St. Helens Community Federal Credit Union | St. Helens | Oregon.
State Bank of Southern Utah | Cedar City | Utah.
America West Bank | Layton | Utah.
Central Bank | Provo | Utah.
Far West Bank | Provo | Utah.
Liberty Bank | Salt Lake City | Utah.
Foundation Bank | Bellevue | Washington.
First Mutual Bank | Bellevue | Washington.
Westsound Bank | Bremerton | Washington.
Coastal Community Bank | Everett | Washington.
Frontier Bank | Everett | Washington.
ShoreBank Pacific | Ilwaco | Washington.
Twin City Bank | Longview | Washington.
City Bank | Lynnwood | Washington.
Golf Savings Bank | Mountlake Terrace | Washington.
School Employees Credit Union of Washington | Seattle | Washington.
Washington Trust Bank | Spokane | Washington.
Numerica Credit Union | Spokane | Washington.
State Bank Northwest | Spokane Valley | Washington.
Pierce Commercial Bank | Tacoma | Washington.
Harborstone Credit Union | Tacoma | Washington.
Columbia State Bank | Tacoma | Washington.
Westside Community Bank | University Place | Washington.
Baker Boyer National Bank | Walla Walla | Washington.
First National Bank of Buffalo | Buffalo | Wyoming.
Wyoming Bank & Trust | Cheyenne | Wyoming.
The Jackson State Bank & Trust | Jackson | Wyoming.

II. Public Comments

To encourage the submission of public comments on the community support performance of Bank members, on or before the January 25, 2008, each Bank will notify its Advisory Council and nonprofit housing developers, community groups, and other interested parties in its district of the members selected for community support review in the 2006-07 eighth quarter review cycle. 12 CFR 944.2(b)(2)(ii). In reviewing a member for community support compliance, the Finance Board will consider any public comments it has received concerning the member. 12 CFR 944.2(d). To ensure consideration by the Finance Board, comments concerning the community support performance of members selected for the 2006-07 eighth quarter review cycle must be delivered to the Finance Board on or before the February 29, 2008 deadline for submission of Community Support Statements.

Dated: December 20, 2007.
Neil R. Crowley,
Acting General Counsel.

[FR Doc. 08-3 Filed 1-10-08; 8:45 am]

BILLING CODE 6725-01-P